DEPARTMENT OF JUSTICE

Antitrust Division

Notice Pursuant to the National Cooperative Research and Production Act of 1993—Development of Voluntary Standard (ANSI/ROV-1-200X) for Recreational Off-Highway Vehicles

Notice is hereby given that, on July 24, 2008, pursuant to section 6(a) of the National Cooperative Research and Production Act of 1993, 15 U.S.C. 4301 et seq. (“the Act”), Development of Voluntary Standard (ANSI/ROV-1-200X) for Recreational Off-Highway Vehicles (“DVSROV”) has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identities of the parties to the venture are: American Honda Motor Co., Inc., Torrance, CA; Arctic Cat Inc., Thief River Falls, NM; Kawasaki Motors Corp., U.S.A., Irvine, CA; Polaris Industries Inc., Medina, MN; and Yamaha Motor Corporation, U.S.A., Cypress, CA. The general areas of DVSROV's planned activities are conducting research, collecting, exchanging and analyzing research information relating to development of a voluntary standard (ANSI/ROV-1-200X) for recreational off-highway vehicles.

Patricia A. Brink,
Deputy Director of Operations, Antitrust Division.

[FR Doc. E8-21290 Filed 9-11-08; 8:45 am]

BILLING CODE 4410-11-P